DEPARTMENT OF TRANSPORTATION

Federal Transit Administration

FY 2010 Discretionary Funding Opportunity: Paul S. Sarbanes Transit in Parks Program

AGENCY: Federal Transit Administration (FTA), DOT.

ACTION: Notice of Availability: Solicitation of Project Proposals.

SUMMARY: The Federal Transit Administration (FTA) announces the availability of approximately $24.5 million in discretionary Fiscal Year (FY) 2010 Paul S. Sarbanes Transit in Parks Program (Transit in Parks Program) funds. This notice solicits proposals to compete for FY 2010 funds under the program, which was established by Section 3021 of the Safe, Accountable, Flexible, Efficient, Transportation Equity Act: A Legacy For Users (SAFETEA-LU), as amended (49 U.S.C. 5320). The program is administered by FTA in partnership with U.S. Department of Interior (DOI) and the U.S. Department of Agriculture's Forest Service.

The program funds capital and planning expenses for alternative transportation systems such as buses and trams in federally-managed parks and public lands. Federal land management agencies, as well as State, tribal and local governments acting with the consent of a Federal land management agency are eligible to apply. DOI, after consultation with and in cooperation with FTA, will determine the final selection and funding of projects. Geographic diversity will be considered when allocating funds. This announcement is available on the FTA Web site at: http://www.fta.dot.gov. FTA will announce final selections on the Web site and in the Federal Register. A synopsis of this funding opportunity will be posted in the FIND module of the government-wide electronic grants Web site at http://www.grants.gov.

DATES: Complete proposals must be received by 12 midnight EST on June 28, 2010.

ADDRESSES: Project proposals must be submitted electronically through the GRANTS.GOV Web site and applicants must be properly registered. Anyone intending to apply electronically through GRANTS.GOV should initiate the process of registering on the GRANTS.GOV site immediately to ensure completion of registration before the deadline for submission. GRANTS.GOV applicants should receive two confirmation e-mails. The first will confirm that the application was received and a subsequent e-mail will be sent within 24-48 hours indicating whether the application was validated or rejected by the system. If interested parties experience difficulties at any point during the registration or application process, please call the GRANTS.GOV Customer Support Hotline at 1-800-518-4726, Monday-Friday from 7 a.m. to 9 p.m. EST. The required electronic project proposal template as well as guidance on completing a proposal template can also be found on GRANTS.GOV and on the program Web site at http://www.fta.dot.gov/funding/grants/grants_financing_6106.html.

FOR FURTHER INFORMATION: Contact the appropriate FTA Regional Administrator (Appendix A) for proposal-specific information and issues or the appropriate land management agency (Appendix B) for the Paul S. Sarbanes Transit in Parks Program. For general program information, contact Kimberly Sledge, Paul S. Sarbanes Transit in Parks Program, (202) 366-2053, Kimberly.Sledge@dot.gov. A TDD is available at 1-800-877-8339 (TDD/FIRS).

SUPPLEMENTARY INFORMATION:

Table of Contents

I. Overview

II. Program Purpose

III. Program Information

1. Eligible Applicants

2. Eligible Projects

3. Cost Sharing and Matching

4. Proposal Content

5. Evaluation Criteria

IV. Technical Assistance and Other Program Information

Appendix A—FTA Regional Offices

Appendix B—Land Management Agency Contacts

I. Overview

Section 3021 of SAFETEA-LU, as amended, established the Paul S. Sarbanes Transit in Parks Program (Transit in Parks Program) (49 U.S.C. 5320). The program is administered by FTA in partnership with DOI and the U.S. Department of Agriculture's Forest Service.

Congestion in and around parks and public lands causes traffic delays, noise, and air pollution that substantially detract from the visitor's experience and the protection of natural resources. In August 2001, the U.S. Department of Transportation and DOI published a comprehensive study of alternative transportation needs in national parks and related Federal lands. The study identified significant alternative transportation needs at sites managed by the National Park Service, the Bureau of Land Management, and the U.S. Fish and Wildlife Service. Additionally, a supplement to this report identified Forest Service sites that would benefit from such services.

II. Program Purpose

The purpose of the program is to enhance the protection of national parks and Federal lands, and increase the enjoyment of visitors' experience by conserving natural, historical, and cultural resources; reducing congestion and pollution; improving visitor mobility and accessibility; enhancing the visitor experience; and ensuring access to all, including persons with disabilities.

III. Program Information

1. Eligible Applicants

Eligible applicants are Federal land management agencies that manage an eligible area, including but not limited to the National Park Service, the Fish and Wildlife Service, the Bureau of Land Management, the Forest Service, and the Bureau of Reclamation; and State, tribal and local governments with jurisdiction over land in the vicinity of an eligible area, acting with the consent of a Federal land management agency, alone or in partnership with a Federal land management agency or other governmental or non-governmental participant. Note: If the applicant is a State, tribal, or local government, a letter from the affected unit(s) of the Federal land management agency or agencies expressing support for the project should be submitted with the project proposal. Proposals with support letters from the unit of the Federal land management agency or agencies will be weighted more favorably by FTA, DOI, and the Forest Service in its evaluation.

2. Eligible Projects

SAFETEA-LU defines alternative transportation as “transportation by bus, rail, or any other publicly or privately owned conveyance that provides to the public general or special service on a regular basis, including sightseeing service. This also includes a non-motorized transportation system (including the provision of facilities for pedestrians, bicycles, and non-motorized watercraft).”

The program funds capital and planning expenses for alternative transportation systems such as buses and trams in federally-managed parks and public lands. A qualified planning or capital project is within the vicinity of a federally-owned or managed park, refuge, or recreational area that is open to the general public and meets the goals of the program. Operating expenses are not eligible under the program. A project proposal may include up to 15 percent for project administration, contingency, and oversight. As specified in 49 U.S.C. 5320(b)(5), the following types of projects are eligible:

a. Planning

Activities to comply with metropolitan and statewide planning provisions (49 U.S.C. 5320(b)(5)(A) referencing 49 U.S.C. 5303, 5304, 5305). Activities include planning studies for an alternative transportation system including evaluation of no-build and all other reasonable alternatives, traffic studies, visitor utilization studies, transportation analysis, feasibility studies, and environmental studies.

b. Capital

Eligible capital projects include all aspects of “acquiring, constructing, supervising, or inspecting equipment or a facility for use in public transportation, expenses incidental to the acquisition or construction (including designing, engineering, location surveying, mapping, and acquiring rights-of-way), payments for the capital portions of rail trackage rights agreements, transit-related intelligent transportation systems, relocation assistance, acquiring replacement housing sites, and acquiring, constructing, relocating, and rehabilitating replacement housing.”

Capital projects may include those projects operated by an outside entity, such as a public transportation agency, state or local government, private company engaged in public transportation, or private non-profit organization. Projects may also include the deployment/commercialization of alternative transportation vehicles that introduce innovative technologies or methods.

The capital cost of leasing vehicles is an eligible expense under the program. For vehicle acquisition projects, sponsors should compare the cost-effectiveness of leasing versus purchasing vehicles. Leasing may be particularly cost effective in circumstances in which transit service is only needed during a peak visitation period that lasts only a few months. In these cases, leasing a vehicle for a few months during the year may be less expensive than purchasing a vehicle only used for a few months during the year. An award can cover the capital cost of leasing vehicles but not the cost of operations, such as fuel or driver's salary.

Project sponsors should also compare the cost effectiveness of providing service versus contracting for service. The capital portion of contracted service is an eligible capital expense under the program. For example, if a public land agency contracts with a private bus company to provide shuttle service with privately owned buses, the portion of the contract that covers the capital expense of the buses is an eligible expense under the Transit in Parks Program. Operating expenses are not eligible under the program. Project sponsors will be asked to compare the cost-effectiveness of their preferred option to other alternatives in the financial sustainability portion of the proposal.

The SAFETEA-LU legislation includes language allowing eligibility of “fixed guideway” projects. These are defined as those transportation projects that run on a dedicated right of way, like a light rail, trolley, bus rapid transit, or any type of ferry system. For these types of projects, eligible projects can include development of a new fixed guideway project; rehabilitation or modernization of existing fixed guideway systems; and expansion of existing systems. For bus or shuttle projects, eligible projects can include purchase of buses and related equipment; replacement of buses and related equipment; rehabilitation of buses and related equipment; construction of bus-related facilities such as bus shelters; and purchase of rolling stock that incorporates clean fuel technology or the replacement of buses of a type in use on August 10, 2005, with clean fuel vehicles.

The Transit in Parks Program specifically includes these other eligible capital projects:

(1) The capital costs of coordinating Federal land management agency public transportation systems with other public transportation systems.

(2) Non-motorized transportation systems (including the provision of facilities for pedestrians, bicycles and non-motorized watercraft).

(3) Water-borne access systems within or in the vicinity of an eligible area as appropriate and consistent with 49 U.S.C. 5320.

(4) Any other alternative transportation project that enhances the environment; prevents or mitigates an adverse impact on a natural resource; improves Federal land management agency resource management; improves visitor mobility and accessibility and the visitor experience; reduces congestion and pollution (including noise pollution and visual pollution); or conserves a natural, historical, or cultural resource (excluding rehabilitation or restoration of a non-transportation facility).

In order to be considered for funding a project must consist of one or more of the eligible activities listed above, meet the definition of alternative transportation, and contribute to the goals of the program.

3. Financial Limitations and Cost Sharing

No one project may receive more than 25 percent of the available funds. Additionally, projects selected for funding under the Paul S. Sarbanes Transit in the Parks Program can be funded at up to 100 percent Federal share.

4. Proposal Content

The required electronic project proposal template as well as guidance on completing a proposal template can be found on GRANTS.GOV and on the program Web site at http://www.fta.dot.gov/funding/grants/grants_financing_6106.html. Proposals should not exceed 10 pages (excluding the standard form 424) and use 12 pt. font.

5. Evaluation Criteria

Proposed planning projects will be evaluated based on the following criteria:

a. Demonstration of Need

(1) Visitor mobility and experience (current or anticipated problem); and

(2) Environmental (current or anticipated problem).

b. Methodology for Assessing Visitor Mobility and Experience Benefits of Project

(1) Reduced traffic congestion;

(2) Enhanced visitor mobility, accessibility, and safety; and

(3) Improved visitor education, recreation, and health benefits.

c. Methodology for Assessing Environmental Benefits of Project

(1) Protection of sensitive natural, cultural, and historic resources; and

(2) Reduced pollution (air, noise, visual).

d. Methodology for Assessing Financial and Operational Efficiency Sustainability of Alternatives

(1) Effectiveness in meeting management goals;

(2) Realistic financial plan;

(3) Cost effectiveness; and

(4) Partnering, funding from other sources, and/or innovative financing.

Proposed capital projects will be evaluated based on the following criteria:

a. Demonstration of Need

(1) Visitor mobility and experience (current or anticipated problem); and

(2) Environmental (current or anticipated problem).

b. Visitor Mobility and Experience Benefits of Project

(1) Reduced traffic congestion;

(2) Enhanced visitor mobility, accessibility, and safety; and

(3) Improved visitor education, recreation, and health benefits.

c. Environmental Benefits of Project

(1) Protection of sensitive natural, cultural, and historic resources; and

(2) Reduced pollution (air, noise, visual).

d. Financial Sustainability and Operational Efficiency

(1) Effectiveness in meeting management goals;

(2) Realistic financial plan;

(3) Cost effectiveness; and

(4) Partnering, funding from other sources, and/or innovative financing.

A special note on non-motorized transportation systems: While non-motorized systems, such as trails, are eligible under the program, not all non-motorized systems will meet the goals of the program needed to be considered for funding. Like motorized systems, in order to be considered for funding, non-motorized systems must reduce or mitigate the number of auto trips by providing an alternative to travel by private auto. In addition, non-motorized systems must provide a high degree of connectivity within a transportation system. Finally, they should improve safety for motorized and non-motorized transportation system users.

IV. Technical Assistance and other Program Information

Complete proposals must be submitted via GRANTS.GOV by June 28, 2010. Frequently asked questions and other program information are available at http://www.fta.dot.gov/atppl. Projects selected for funding will be required to report quarterly and submit performance data to the appropriate agency. Detailed information on reporting will be included in the Federal Register notice announcing projects selected for funding. Technical assistance regarding the program is available by contacting Kimberly Sledge, Federal Transit Administration, (202) 366-2053, kimberly.sledge@dot.gov or the appropriate Federal land management agency contact (see Appendix B).

Issued in Washington, DC, May 7, 2010.
Peter Rogoff,
Administrator.

Appendix A

FTA Regional and Metropolitan Offices
Richard H. Doyle, Regional Administrator, Region 1—Boston, Kendall Square, 55 Broadway, Suite 920, Cambridge, MA 02142-1093, Tel. 617-494-2055 | Robert C. Patrick, Regional Administrator, Region 6—Ft. Worth, 819 Taylor Street, Room 8A36, Ft. Worth, TX 76102, Tel. 817-978-0550.
States served: Connecticut, Maine, Massachusetts, New Hampshire, Rhode Island, and Vermont | States served: Arkansas, Louisiana, Oklahoma, New Mexico and Texas.
Brigid Hynes-Cherin, Regional Administrator, Region 2—New York, One Bowling Green, Room 429, New York, NY 10004-1415, Tel. 212-668-2170 | Mokhtee Ahmad, Regional Administrator, Region 7—Kansas City, MO, 901 Locust Street, Room 404, Kansas City, MO 64106, Tel. 816-329-3920.
States served: New Jersey, New York. | States served: Iowa, Kansas, Missouri, and Nebraska.
New York Metropolitan Office, Region 2—New York, One Bowling Green, Room 428, New York, NY 10004-1415, Tel. 212-668-2202.
Letitia Thompson, Regional Administrator, Region 3—Philadelphia, 1760 Market Street, Suite 500, Philadelphia, PA 19103-4124, Tel. 215-656-7100 | Terry Rosapep, Regional Administrator, Region 8-Denver, 12300 West Dakota Ave., Suite 310, Lakewood, CO 80228-2583, Tel. 720-963-3300.
States served: Delaware, Maryland, Pennsylvania, Virginia, West Virginia, and District of Columbia | States served: Colorado, Montana, North Dakota, South Dakota, Utah, and Wyoming.
Philadelphia Metropolitan Office, Region 3—Philadelphia, 1760 Market Street, Suite 500, Philadelphia, PA 19103-4124, Tel. 215-656-7070.
Washington, D.C. Metropolitan Office, 1990 K Street, NW., Room 510, Washington, DC 20006, Tel. 202-219-3562.
Yvette Taylor, Regional Administrator, Region 4—Atlanta, 230 Peachtree Street, NW,. Suite 800, Atlanta, GA 30303, Tel. 404-865-5600 | Leslie T. Rogers, Regional Administrator, Region 9—San Francisco, 201 Mission Street, Room 1650, San Francisco, CA 94105-1926, Tel. 415-744-3133.
States served: Alabama, Florida, Georgia, Kentucky, Mississippi, North Carolina, Puerto Rico, South Carolina, Tennessee, and Virgin Islands. | States served: American Samoa, Arizona, California, Guam, Hawaii, Nevada, and the Northern Mariana Islands.
| Los Angeles Metropolitan Office, Region 9—Los Angeles, 888 S. Figueroa Street, Suite 1850, Los Angeles, CA 90017-1850, Tel. 213-202-3952.
Marisol Simon, Regional Administrator, Region 5—Chicago, 200 West Adams Street, Suite 320, Chicago, IL 60606, Tel. 312-353-2789 | Rick Krochalis, Regional Administrator, Region 10—Seattle, Jackson Federal Building, 915 Second Avenue, Suite 3142, Seattle, WA 98174-1002, Tel. 206-220-7954.
States served: Illinois, Indiana, Michigan, Minnesota, Ohio, and Wisconsin | States served: Alaska, Idaho, Oregon, and Washington.
Chicago Metropolitan Office, Region 5—Chicago, 200 West Adams Street, Suite 320, Chicago, IL 60606, Tel. 312-353-2789.

Appendix B

Federal Land Management Agencies Transit in Parks Program Contacts

• National Park Service: Mark H. Hartsoe, Mark_H_Hartsoe@nps.gov; telephone: 202-513-7025, fax: 202-371-6675, mail: 1849 C Street, NW., (MS2420); Washington, DC 20240-0001

• Fish and Wildlife Service: Nathan Caldwell, Nathan_Caldwell@fws.gov, telephone: 703-358-2205, fax: 703-358-2517, mail: 4401 N. Fairfax Drive, Room 634, Arlington, VA 22203

• Forest Service: Floyd Thompson, Fthompson02@fs.fed.us, telephone: 202-205-1423, mail: 1400 Independence Avenue, SW., Washington, DC 20250-1101

• Bureau of Land Management: Victor F. Montoya, Victor_Montoya@blm.gov, telephone: 202-912-7041, mail: 1620 L Street, WO-854, Washington, DC 20036

[FR Doc. 2010-11474 Filed 5-12-10; 8:45 am]

BILLING CODE 4910-57-P